DEPARTMENT OF COMMERCE

International Trade Administration

[A-421-807]

Certain Hot-Rolled Carbon Steel Flat Products From the Netherlands; Antidumping Duty Administrative Review; Extension of Time Limit

AGENCY: Import Administration, International Trade Administration, Department of Commerce.

ACTION: Notice of extension of time limit.

SUMMARY: The Department of Commerce (the Department) is extending the time limit for the preliminary results of the 2002-2003 administrative review of the antidumping duty order on certain hot-rolled carbon steel flat products from the Netherlands. This review covers one manufacturer/exporter of the subject merchandise to the United States and the period November 1, 2002 through October 31, 2003.

EFFECTIVE DATE: July 15, 2004.

FOR FURTHER INFORMATION CONTACT: David Cordell at (202) 482-0408 or Robert James at (202) 482-0649, Antidumping and Countervailing Duty Enforcement Group III, Office Eight, Import Administration, International Trade Administration, U.S. Department of Commerce, 14th Street and Constitution Avenue NW., Washington, DC 20230.

SUPPLEMENTARY INFORMATION: On December 24, 2003, in response to a request from petitioners, (United States Steel Corporation), and interested parties (International Steel Group and Nucor Corporation), we published a notice of initiation of this administrative review in the Federal Register. See Initiation of Antidumping and Countervailing Duty Administrative Reviews, 68 FR 74550 (December 24, 2003). Pursuant to the time limits for administrative reviews set forth in section 751(a)(3)(A) of the Tariff Act of 1930, as amended (the Tariff Act), the current deadlines are August 1, 2004 for the preliminary results and November 29, 2004 for the final results. The Department, however, may extend the deadline for completion of the preliminary results of a review if it determines it is not practicable to complete the preliminary results within the statutory time limit. See 751(a)(3)(A) of the Tariff Act and section 351.213(h)(2) of the Department's regulations. In this case the Department has determined it is not practicable to complete this review within the statutory time limit because of significant issues which require additional time to evaluate. These include the examination of sales by respondent Corus Staal, BV's many affiliated parties in the U.S. market and in the home market and further examination of the cost of production response.

Therefore, the Department is extending the time limit for completion of the preliminary results until November 29, 2004 in accordance with section 751(a)(3)(A) of the Tariff Act. The deadline for the final results of this review will continue to be 120 days after publication of the preliminary results.

Dated: July 8, 2004.
Jeffrey May,
Deputy Assistant Secretary for Import Administration, Group I.

[FR Doc. 04-15984 Filed 7-14-04; 8:45 am]

BILLING CODE 3510-DS-P